ENVIRONMENTAL PROTECTION AGENCY

[FRL-6733-1]

Agency Information Collection Activities: Continuing Collection; Comment Request; Registration of Fuels and Fuel Additives

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB): Registration of Fuels and Fuel Additives (EPA ICR Number 309.10, OMB Control Number 2060-0150, expiration date: 6-30-00). Before submitting the ICR to OMB for review and approval, EPA is soliciting comments on specific aspects of the proposed information collection as described below.

Dates: Comments must be submitted on or before September 11, 2000.

ADDRESSES: Transportation and Regional Programs Division, Office of Transportation and Air Quality, Office of Air and Radiation, Mail Code 6406J, U.S. Environmental Protection Agency, 1200 Pennsylvania Avenue, NW, Washington, DC 20460. A paper or electronic copy of the draft ICR may be obtained without charge by contacting the person listed below.

FOR FURTHER INFORMATION CONTACT: James W. Caldwell, (202) 564-9303, fax: (202) 565-2085, caldwell.jim@epa.gov.

SUPPLEMENTARY INFORMATION: Affected entities: Entities potentially affected by this action are those who (1) manufacture or import gasoline or diesel fuel for use in motor vehicles, or (2) manufacture or import an additive for gasoline or diesel fuel for use in motor vehicles.

Title: Registration of Fuels and Fuel Additives: Requirements for Manufacturers (40 CFR 79), EPA ICR Number 309.10, OMB Control Number 2060-0150, expiration date: 6-30-00.

Abstract: In accordance with the regulations at 40 CFR 79, Subparts A, B, C, and D, Registration of Fuels and Fuel Additives, manufacturers (including importers) of gasoline or diesel fuel for use in motor vehicles, and manufacturers (including importers) of additives for such gasoline or diesel fuel, are required to have these products registered by the EPA prior to their introduction into commerce. Registration involves providing a chemical description of the fuel or additive, certain technical and marketing information, and any health-effects information in possession of the manufacturer. The development of heath-effects data, as required by 40 CFR part 79, Subpart F, is covered by a separate information collection. Manufacturers are also required to submit periodic reports (annually for additives, quarterly and annually for fuels) on production volume and related information. The information is used to identify products whose evaporative or combustion emissions may pose an unreasonable risk to public health, thus meriting further investigation and potential regulation. The information is also used to ensure that gasoline additives comply with EPA requirements for protecting catalytic converters and other automotive emission controls. The data have been used to construct a comprehensive data base on fuel and additive composition. The Mine Safety and Health Administration of the Department of Labor restricts the use of diesel additives in underground coal mines to those registered by EPA. Most of the information is confidential.

An agency may not conduct or sponsor, and a person is not required to respond to, a collection of information unless it displays a currently valid OMB control number. The OMB control numbers for EPA's regulations are listed at 40 CFR Part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: There are approximately 120 fuel manufacturers, 660 additive manufacturers, 600 registered fuels, and 5600 registered additives. For each additive that is not a relable of a registered additive, about 4000 additives, an annual report is required, at an estimated burden of one hour and cost of $58. For each fuel, quarterly and annual reports are required, at an estimated burden of three hours and $173 for each. EPA estimates that there will be 500 new additives registered each year, with a reporting burden of eight hours and $500 each. EPA estimates that there will be 500 additive update letters each year, with a burden of one hour and $54 each. EPA estimates that there will be 50 new gasoline and diesel fuels registered each year, with a burden of eight hours and $500 each. EPA estimates that there will be 600 fuel update letters each year, with a burden of one hour and $54 each. There are no capital and start-up costs. There are no operation and maintenance costs beyond copying and postage. The total annual estimated burden for industry is 18,500 hours and $1 million. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: June 22, 2000.
Merrylin Zaw-Mon,
Director, Transportation and Regional Programs Division.

[FR Doc. 00-17490 Filed 7-10-00; 8:45 am]

BILLING CODE 6560-50-P